DEPARTMENT OF ENERGY

Federal Energy Regulatory Commission

[Project No. 11810-007]

City of Augusta, GA; Notice Dismissing Request for Rehearing

February 3, 2005.

By letter of May 5, 2004, Commission staff informed the City of Augusta, Georgia (Augusta), that it would be required to obtain water quality certification under section 401(a) of the Clean Water Act, 33 U.S.C. 1341(a), from the State of South Carolina in connection with Augusta's application for an original license for the Augusta Canal Project No. 11810, located on the Savannah River in Georgia and South Carolina. Section 313 of the Federal Power Act (FPA), 16 U.S.C. 825l, establishes the right of a party aggrieved by a Commission order to seek rehearing of that order within 30 days of its issuance. Augusta did not seek rehearing but, on June 4, 2004, sought reconsideration of the letter, asking the Commission to vacate the letter on the ground that certification was not required. By order issued November 23, 2004, 109 FERC ¶ 61,210 (2004), the Commission denied reconsideration as to the need for certification but granted Augusta's request for an extension of time to obtain it.

On December 23, 2004, Augusta sought rehearing of the Commission's order. The order on reconsideration, which allowed the staff letter to remain effective, did not create a right to rehearing that had not been created by issuance of the staff letter itself. To the extent that Augusta was aggrieved by the staff letter, a request for rehearing of the letter would have been the appropriate remedy. As Augusta did not seek rehearing of the staff letter, a request for rehearing of the order on reconsideration is effectively an impermissibly late-filed request for rehearing of the letter. Accordingly, Augusta's December 23, 2004, request for rehearing in this proceeding does not lie and is dismissed.

Magalie R. Salas,
Secretary.

[FR Doc. E5-546 Filed 2-9-05; 8:45 am]

BILLING CODE 6717-01-P